NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated under the Antarctic Conservation Act of 1978. This is the required notice of a requested permit modification and permit issued.

DATES: October 30, 2016-January 31, 2023.

The permit modification was issued on August 17, 2021.

FOR FURTHER INFORMATION CONTACT: Polly Penhale, ACA Permit Officer, Office of Polar Programs, National Science Foundation, 2415 Eisenhower Avenue, Alexandria, VA 22314; 703-292-7420; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

Description of Permit Modification Requested: The Foundation issued a permit (ACA 2017-017) to Leidos Innovations Group on October 30, 2016. The issued permit allows the applicant to conduct take of native mammal and bird species. Periodically native mammal and bird species enter the aircraft runways, the roads, and the ice pier at McMurdo Station, or the pier or general station area at Palmer Station. Such invasions pose operational safety concerns as well as potential harm to the animals. This permit authorizes permit agents to herd wildlife away from operational areas and out of harm's way. Individuals tasked with wildlife removal are trained in proper techniques designed to minimize disturbance.

The applicant proposes a modification to his permit to extend the expiration date of the permit until January 31, 2023. The modification also includes changes to permit language for updated accuracy.

The Environmental Officer has reviewed the modification request and has determined that the amendment is not a material change to the permit, and it will have a less than a minor or transitory impact.

Erika N. Davis,
Program Specialist, Office of Polar Programs.

[FR Doc. 2021-17937 Filed 8-20-21; 8:45 am]

BILLING CODE 7555-01-P